JUDICIAL CONFERENCE OF THE UNITED STATES

Advisory Committee on Evidence Rules; Meeting of the Judicial Conference

AGENCY: Judicial Conference of the United States.

ACTION: Advisory Committee on Evidence Rules; notice of open meeting.

SUMMARY: The Advisory Committee on Evidence Rules will hold a meeting in a hybrid format with remote attendance options on April 28, 2023 in Washington, DC. The meeting is open to the public for observation but not participation. An agenda and supporting materials will be posted at least 7 days in advance of the meeting at: https://www.uscourts.gov/rules-policies/records-and-archives-rules-committees/agenda-books.

DATES: April 28, 2023.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

(Authority: 28 U.S.C. 2073.)

Dated: January 19, 2023.
Shelly L. Cox,
Management Analyst, Rules Committee Staff.

[FR Doc. 2023-01348 Filed 1-23-23; 8:45 am]

BILLING CODE 2210-55-P